DEPARTMENT OF THE INTERIOR

Bureau of Land Management

[LLCAN00000.L18200000.XZ0000]

Notice of Resource Advisory Council Vacancies

AGENCY: Bureau of Land Management, Interior.

ACTION: Notice.

SUMMARY: Pursuant to authorities in the Federal Advisory Committee Act (FACA) and the Federal Land Policy and Management Act (FLPMA), the Bureau of Land Management (BLM) is seeking nominations to fill two vacant seats on the Northwest California Resource Advisory Council. The persons selected to fill the vacancies will complete unexpired terms ending in September 2010 and September 2011. The appointees will be eligible to compete for the full three-year terms when the current terms expire.

SUPPLEMENTARY INFORMATION: The council vacancies are in membership category one, which includes persons who hold Federal grazing permits in northwest California, or represent transportation and rights of way interests, the commercial timber industry, energy and mineral development interests, or recreational interests including off-highway vehicle users, commercial recreation, or developed recreation interests. The appointments will be made by the Secretary of the Interior pursuant to FACA (5 U.S.C. Appendix 2) and FLMPMA (43 U.S.C. 1701 et seq.) as are all BLM Resource Advisory Council appointments. The persons selected must have knowledge or experience in the interest area specified, and must have knowledge of the geographic area under the council's purview (Northwest California). Qualified applicants must have demonstrated a commitment to collaborate with varied interests to solve a broad spectrum of natural resource issues.

Nomination forms are available by contacting BLM Public Affairs Officer Joseph J. Fontana, 2950 Riverside Drive, Susanville, California 96130; by telephone at (530) 252-5332; or e-mail, jfontana@ca.blm.gov. Forms can also be downloaded from the following BLM California Web site: http://www.blm.gov/ca/st/en/info/rac/nwrac.html. Nominations must be returned to: Bureau of Land Management, 2950 Riverside Drive, Susanville, California 96130, Attention: Public Affairs Officer, no later than April 8, 2010. Individuals can nominate themselves, or interest groups can submit nominations. Nominations must include letters of support from the interest groups the nominee will represent.

The Obama Administration prohibits individuals who are currently federally registered lobbyists to serve on all FACA and non-FACA boards, committees or councils.

For Additional Information: Contact BLM Northern California District Manager Nancy Haug, (530) 221-1743, or Public Affairs Officer Joseph J. Fontana at the above phone or e-mail address.

Authority: 43 CFR subpart 1784.

Joseph J. Fontana,
Public Affairs Officer.

[FR Doc. 2010-4966 Filed 3-8-10; 8:45 am]

BILLING CODE 4310-40-P